DEPARTMENT OF ENERGY

Federal Energy Regulatory Commission 118

[P-2458-236]

Great Lakes Hydro America, LLC; Notice of Application Accepted for Filing and Soliciting Comments, Motions To Intervene, and Protests

Take notice that the following hydroelectric application has been filed with the Commission and is available for public inspection.

a. Type of Application: Non-capacity amendment of license.

b. Project No.: 2458-236.

c. Date Filed: January 24, 2020 and supplemented March 26, 2020.

d. Applicant: Great Lakes Hydro America, LLC.

e. Name of Project: Penobscot Mills Hydroelectric Project.

f. Location: The project is located on the West Branch of the Penobscot River and Millinocket Stream in Piscataquis and Penobscot counties, Maine.

g. Filed Pursuant to: Federal Power Act, 16 U.S.C. 791(a)-825(r).

h. Applicant Contact: Mr. Kevin Bernier, 1024 Central Street, Millinocket, ME 04462, (207) 723-4341, ext. 118.

i. FERC Contact: Korede Olagbegi, (202) 502-6268, Korede.Olagbegi@ferc.gov.

j. Deadline for filing comments, motions to intervene, and protests is 30 days from the issuance of this notice. The Commission strongly encourages electronic filing. Please file comments, motions to intervene, and protests using the Commission's eFiling system at http://www.ferc.gov/docs-filing/efiling.asp. Commenters can submit brief comments up to 6,000 characters, without prior registration, using the eComment system at http://www.ferc.gov/doc-sfiling/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2458-236. Comments emailed to Commission staff are not considered part of the Commission record.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. Description of Request: As part of its long-term generator maintenance and restoration plans of the Penobscot Mills Project, the applicant proposes to replace three 40 Hertz (Hz) generating units with three 60 Hz units at the Millinocket Development, and rewind one unit at the Dolby Development, converting it from 40 Hz to 60 Hz. The applicant also proposes to amend the project license to remove unit 2 at the Millinocket Development, and to remove units 1, 2, 3, and 4, at the Dolby Development. The applicant indicates that these units have been removed from service and describes the actions taken that have rendered the units incapable of grid connection. The proposed actions would reduce the total authorized installed capacity of the project from 70.8 to 67.9 megawatts, while leaving the hydraulic capacity unchanged. The applicant states that in order to accommodate the frequency conversions, upgrades to transmission equipment will be necessary, but the connection points to the electrical grid will remain the same. The applicant does not propose changes to normal operations, or any other aspects of the project.

l. Locations of the Applications: The Commission provides all interested persons an opportunity to view and/or print the contents of this document via the internet through the Commission's website at http://www.ferc.gov/docs-filing/elibrary.asp. Enter the docket number excluding the last three digits in the docket number field to access the document. You may also register online at http://www.ferc.gov/docs-filing/esubscription.asp to be notified via email of new filings and issuances related to this or other pending projects. Agencies may obtain copies of the application directly from the applicant. At this time, the Commission has suspended access to the Commission's Public Reference Room due to the proclamation declaring a National Emergency concerning the Novel Coronavirus Disease (COVID-19), issued by the President on March 13, 2020. For assistance, contact the Federal Energy Regulatory Commission at FERCOnlineSupport@ferc.gov or call toll free, (866) 208-3676 or TTY, (202) 502-8659.

m. Individuals desiring to be included on the Commission's mailing list should so indicate by writing to the Secretary of the Commission.

n. Comments, Motions to Intervene, or Protests: Anyone may submit comments, a motion to intervene, or a protest in accordance with the requirements of Rules of Practice and Procedure, 18 CFR 385.210, .211, .214. In determining the appropriate action to take, the Commission will consider all protests or other comments filed, but only those who file a motion to intervene in accordance with the Commission's Rules may become a party to the proceeding. Any comments, motions to intervene, or protests must be received on or before the specified comment date for the particular application.

o. Filing and Service of Responsive Documents: Any filing must (1) bear in all capital letters the title COMMENTS, MOTION TO INTERVENE, or PROTEST as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis. A copy of all other filings in reference to this application must be accompanied by proof of service on all persons listed in the service list prepared by the Commission in this proceeding, in accordance with 18 CFR 385.2010.

Dated: April 9, 2020.
Nathaniel J. Davis, Sr.,
Deputy Secretary.

[FR Doc. 2020-07928 Filed 4-14-20; 8:45 am]

BILLING CODE 6717-01-P